GOVERNMENT PRINTING OFFICE

Depository Library Council to the Public Printer; Meeting

The Depository Library Council to the Public Printer (DLC) will meet on Sunday, April 21, 2002, through Wednesday, April 24, 2002, in Mobile, Alabama. The sessions will take place from 7:30 p.m. until 10 p.m. on Sunday, 8:30 a.m. until 5 p.m. on Monday and Tuesday and from 8:30 a.m. until 2:30 p.m. on Wednesday. The meeting will be held at the Radisson Admiral Semmes Hotel, 251 Government Street, Mobile, Alabama 36602. The purpose of this meeting is to discuss the Federal Depository Library Program. All sessions are open to the public.

A limited number of hotel rooms have been reserved at the Radisson Admiral Semmes Hotel for anyone needing hotel accommodations. Telephone: 251-432-8000. Please specify the U.S. Government Printing Office or the Depository Library Council meeting when you contact the hotel. Room cost is $55 (plus tax) per night through March 20, 2002.

Robert T. Mansker,
Deputy Public Printer.

[FR Doc. 02-6093 Filed 3-13-02; 8:45 am]

BILLING CODE 1520-01-P